DEPARTMENT OF THE INTERIOR

National Park Service

[NPS-WASO-NAGPRA-NPS0034713; PPWOCRADN0-PCU00RP14.R50000]

Notice of Inventory Completion: Michigan State Historic Preservation Office, Lansing, MI

AGENCY: National Park Service, Interior.

ACTION: Notice.

SUMMARY: The Michigan State Historic Preservation Office (Michigan SHPO) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Michigan SHPO. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Michigan SHPO at the address in this notice by November 16, 2022.

FOR FURTHER INFORMATION CONTACT: Michael Hambacher, Staff Archaeologist, State Historic Preservation Office, Michigan Economic Development Corporation, 300 N. Washington Square, Lansing, MI 48913, telephone (517) 243-9513, email hambacherm@michigan.gov.

SUPPLEMENTARY INFORMATION: Notice is here given in accordance with the Native American Graves Protection and Repatriation Act (NAGPRA), 25 U.S.C. 3003, of the completion of an inventory of human remains and associated funerary objects under the control of the Michigan State Historic Preservation Office, Lansing, MI. The human remains and associated funerary objects were removed from Bay and Saginaw Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the Michigan SHPO professional staff in consultation with representatives of the Bay Mills Indian Community, Michigan; Chippewa Cree Indians of the Rocky Boy's Reservation, Montana (previously listed as Chippewa-Cree Indians of the Rocky Boy's Reservation, Montana); Grand Traverse Band of Ottawa and Chippewa Indians, Michigan; Keweenaw Bay Indian Community, Michigan; Lac Vieux Desert Band of Lake Superior Chippewa Indians of Michigan; Little Shell Tribe of Chippewa Indians of Montana; Minnesota Chippewa Tribe, Minnesota (Mille Lacs Band); Saginaw Chippewa Indian Tribe of Michigan; and the Sault Ste. Marie Tribe of Chippewa Indians, Michigan. In addition, the Bad River Band of the Lake Superior Tribe of Chippewa Indians of the Bad River Reservation, Wisconsin; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Minnesota Chippewa Tribe, Minnesota (Bois Forte Band (Nett Lake); Fond du Lac Band; Grand Portage Band; Leech Lake Band; White Earth Band); Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Sokaogon Chippewa Community, Wisconsin; St. Croix Chippewa Indians of Wisconsin; and the Turtle Mountain Band of Chippewa Indians of North Dakota were invited to consult but did not participate. Hereafter, all Indian Tribes in this section are referred to as “The Consulted and Invited Tribes.”

History and Description of the Human Remains

On an unknown date, human remains representing, at minimum, one individual were removed from the Kerr #3 site (20BY6) in Bay County, MI. The human remains and associated funerary objects were surface collected from a beach north of the Kawkawlin River. They were noted as fragmentary, weathered, and sun-bleached. The human remains collected from the site are one adult, indeterminate sex, and date to the Early Late Woodland Period (A.D. 500-1100) based on ceramic sherds collected on the same beach as the human remains. No known individual was identified. The two associated funerary objects are two lots of ceramic sherds.

In 1968, human remains representing, at minimum, three individuals were removed from the Bugai site (20SA215) in Saginaw County, MI. Construction workers encountered human remains while working along Insterstate-75 in Bridgeport Township on land owned by the State of Michigan. They contacted the Michigan State Police to investigate the site. On July 31, 1968, State Highway Department employees excavated three burials and multiple objects. The burials were surrounded by areas containing red ochre. The human remains first were taken to the State Police crime lab for further examination. After the burials were determined to be archeological, a detective assigned to the case contacted a local amateur archeologist to take possession of the human remains and objects. On August 14, 1968, he donated the collections to the University of Michigan Museum of Anthropological Archaeology (UMMAA). The human remains collected from the site include two adults, both 18-24 years old and possibly female; and one adult, 45+ years old, male. One lot of DNA extractions, taken from human remains in this site collection between 1996 and 2006, will also be included in this transfer. The human remains date to the Early Late Woodland Period (A.D. 500-1100). No known individuals were identified. The 22 associated funerary objects are one lot of stone celt and possible stone celt fragment; one lot of retouched lithic flake; one lot of retouched lithic flake; one lot of lithic flakes; one lot of Jack's Reef projectile point fragment; one lot of earthenware body sherds; one lot of earthenware sherds; one lot of stone celt fragment; one lot of unworked turtle shell fragments and unworked animal long bone fragment; one lot of perforated turtle plastron; one lot of sandstone abraders; one lot of lithic biface preforms and lithic flake; one lot of possible lithic scraper and lithic flake; one lot of antler billets; one lot of utilized antler tine fragment; one lot of modified antler fragment; one lot of antler fragment; one lot of carved antler fragment; one lot of stone blank or preform; one lot soil sample; one lot of burned wood; and one lot of fire-cracked rock.

Determinations Made by the Michigan State Historic Preservation Office

Officials of the Michigan State Historic Preservation Office have determined that:

• Pursuant to 25 U.S.C. 3001(9), the human remains described in this notice are Native American based on cranial morphology, dental traits, accession documentation, and archeological context.

• Pursuant to 25 U.S.C. 3001(9), the human remains described in this notice represent the physical remains of four individuals of Native American ancestry.

• Pursuant to 25 U.S.C. 3001(3)(A), the 24 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Saginaw Chippewa Indian Tribe of Michigan.

• Treaties, Acts of Congress, or Executive orders, indicate that the land from which the Native American human remains and associated funerary objects were removed is the aboriginal land of The Consulted and Invited Tribes.

• Pursuant to 43 CFR 10.11(c)(1), the disposition of the human remains and associated funerary objects may be to The Consulted and Invited Tribes.

Additional Requestors and Disposition

Representatives of any Indian Tribe or Native Hawaiian organization not identified in this notice that wish to request transfer of control of these human remains and associated funerary objects should submit a written request with information in support of the request to Michael Hambacher, Staff Archaeologist, State Historic Preservation Office, Michigan Economic Development Corporation, 300 N. Washington Square, Lansing, MI 48913, telephone (517) 243-9513, email hambacherm@michigan.gov, by November 16, 2022. After that date, if no additional requestors have come forward, transfer of control of the human remains and associated funerary objects to The Consulted and Invited Tribes may proceed.

The Michigan State Historic Preservation Office is responsible for notifying The Consulted and Invited Tribes that this notice has been published.

Dated: October 5, 2022.
Melanie O'Brien,
Manager, National NAGPRA Program.

[FR Doc. 2022-22515 Filed 10-14-22; 8:45 am]

BILLING CODE 4312-52-P